DEPARTMENT OF LABOR

Mine Safety and Health Administration

Petitions for Modification

The following parties have filed petitions to modify the application of existing safety standards under section 101(c) of the Federal Mine Safety and Health Act of 1977.

1. Genwal Resources, Inc.

[Docket No. M-2003-082-C]

Genwal Resources, Inc., P.O. Box 1077, Price, Utah 84501 has filed a petition to modify the application of 30 CFR 75.350 (Air courses and belt haulage entries) to its South Crandall Canyon Mine (MSHA I.D. No. 42-02356) located in Emery County, Utah. The petitioner requests a modification of the existing standard to allow the use of two-entry longwall development. The petitioner proposes to use the belt entry as a return air course during two-entry longwall development, and as an intake air course during longwall extraction to insure an adequate quantity of ventilation to dilute and render harmless any methane or other noxious gases that otherwise may accumulate. The petitioner asserts that the proposed alternative method would provide at least the same measure of protection as the existing standard and will not result in a diminution of safety to the affected miners.

2. Genwal Resources, Inc.

[Docket No. M-2003-083-C]

Genwal Resources, Inc., P.O. Box 1077, Price, Utah 84501 has filed a petition to modify the application of 30 CFR 75.500 (Permissible electric equipment) to its South Crandall Canyon Mine (MSHA I.D. No. 42-02356) located in Emery County, Utah. The petitioner requests a modification of the existing standard to allow for the use of specific electronic equipment for testing and diagnostics on permissible equipment, for which permissible testing and diagnostic equipment is not readily available or approved. This will allow use of testing and diagnostic equipment in those locations within the mine where permissible electric equipment is required. The petitioner proposes to use the following non-permissible low-voltage or battery powered electronic testing and diagnostic equipment: lap top computers, oscilloscopes, vibration analysis machines, cable fault detectors, point temperature probes, infrared temperature devices and recorders, pressure and flow measurement devices, signal analyzer devices, ultrasonic thickness gauges, electronic component testers, electronic tachometers and battery operated drills. The petitioner states that other testing and diagnostic equipment may be used if approved in advance by MSHA's District Office. The petitioner asserts that the proposed alternative method would provide at least the same measure of protection as the existing standard.

3. Genwal Resources, Inc.

[Docket No. M-2003-084-C]

Genwal Resources, Inc., P.O. Box 1077, Price, Utah 84501 has filed a petition to modify the application of 30 CFR 75.804(a) (Underground high-voltage cables) to its South Crandall Canyon Mine (MSHA I.D. No. 42-02356) located in Emery County, Utah. The petitioner requests a modification of the existing standard to allow the use of high-voltage cables for longwall equipment, with an insulated internal ground check conductor smaller than a No. 10 (AWG), and the ground check conductor not smaller than a No. 16 (AWG). The type of high-voltage cables for longwall equipment will be Cablec Anaconda grand 5KV 3/C type SHD+GC, Pirelli 5KV 3/C type SHD-CENTER-GC or Tiger Grand 5KV type SHC-CGC, MSHA accepted as flame-resistant cable. The ground check conductor will not be smaller than a No. 16 (AWG) stranded conductor. The petitioner asserts that the proposed alternative method would provide at least the same measure of protection as the existing standard.

4. Genwal Resources, Inc.

[Docket No. M-2003-085-C]

Genwal Resources, Inc., P.O. Box 1077, Price, Utah 84501 has filed a petition to modify the application of 30 CFR 75.1002-1(a) (Location of other electric equipment; requirements for permissibility) now 30 CFR 75.1002 (Installation of electric equipment and conductors; permissibility) to its South Crandall Canyon Mine (MSHA I.D. No. 42-02356) located in Emery County, Utah. The petitioner requests a modification of the existing standard to allow for the use of specific electronic equipment for testing and diagnostics on permissible equipment, for which permissible testing and diagnostic equipment is not readily available or approved, in those locations within the mine where permissible electric equipment is required. The petitioner proposes to use the following non-permissible low-voltage or battery powered electronic testing and diagnostic equipment: lap top computers, oscilloscopes, vibration analysis machines, cable fault detectors, point temperature probes, infrared temperature devices and recorders, pressure and flow measurement devices, signal analyzer devices, ultrasonic thickness gauges, electronic component testers, electronic tachometers and battery operated drills. The petitioner states that other testing and diagnostic equipment may be used if approved in advance by MSHA's District Office. The petitioner asserts that the proposed alternative method would provide at least the same measure of protection as the existing standard.

5. Genwal Resources, Inc.

[Docket No. M-2003-086-C]

Genwal Resources, Inc., P.O. Box 1077, Price, Utah 84501 has filed a petition to modify the application of 30 CFR 75.1101-8 (Water sprinkler systems; arrangement of sprinklers) to its South Crandall Canyon Mine (MSHA I.D. No. 42-02356) located in Emery County, Utah. The petitioner proposes to use a water sprinkler system that consists of a single overhead pipe system with automatic sprinklers located not more than 10 feet apart so that the water discharged from the sprinklers will cover 50 feet of fire-resistant belt or 150 feet of non-fire resistant belt adjacent to the belt drive. In addition, automatic sprinklers would be located not more than 10 feet apart so that the water discharged from the sprinkler(s) will cover the drive motor(s), belt take-up, electrical controls, and gear reducing unit for each belt drive. The petitioner has listed in this petition for modification, specific procedures that would be followed when using the proposed water sprinkler system. The petitioner asserts that the proposed alternative method would provide at least the same measure of protection as the existing standard.

6. White County Coal, LLC

[Docket No. M-2003-087-C]

White County Coal, LLC, 1525 County Road 1300 North Carmi, Illinois 62821 has filed a petition to modify the application of 30 CFR 75.1700 (Oil and gas wells) to its Pattiki II Mine (MSHA I.D. No. 11-03058) located in White County, Illinois. The petitioner proposes to plug oil and gas wells using the proven techniques described in this petition and then mine in close proximity or through such plugged wells using the specific procedures listed in the petition for modification. The petitioner asserts that the proposed alternative method would provide at least the same measure of protection as the existing standard.

7. D & D Coal Company

[Docket No. M-2003-088-C]

D & D Coal Company, 320 East Main Street, Hegins, Pennsylvania 17938 has filed a petition to modify the application of 30 CFR 75.311(b)(2) and (b)(3) (Main mine fan operation) to its Primrose Slope Mine (MSHA I.D. No. 36-08341) located in Schuylkill County, Pennsylvania. The petitioner requests a modification of the existing standard to permit the electrical circuits entering the underground mine to remain energized to the mine's pumps while the main fan has been intentionally shut down during idle shifts when no miners are working underground. The petitioner has listed in this petition specific terms and conditions that would be followed when implementing the proposed alternative method. The petitioner asserts that the proposed alternative method would provide at least the same measure of protection as the existing standard.

8. Warrior Coal, LLC

[Docket No. M-2003-089-C]

Warrior Coal, LLC, 57 J. E. Ellis Road, Madisonville, Kentucky 42431 has filed a petition to modify the application of 30 CFR 75.1700 (Oil and gas wells) to its West Ridge Mine (MSHA I.D. No. 15-17216) located in Hopkins County, Kentucky. The petitioner proposes to mine through oil and gas wells in all mineable coal beds using the specific terms and conditions listed in this petition. The petitioner asserts that the proposed alternative method would provide at least the same measure of protection as the existing standard.

9. Kingwood Mining Company, LLC

[Docket No. M-2003-090-C]

Kingwood Mining Company, LLC, Route 1, Box 294C, Newburg, West Virginia 26410 has filed a petition to modify the application of 30 CFR 75.503 (Permissible electric face equipment; maintenance) to its Whitetail K—Mine (MSHA I.D. No. 46-08751) located in Preston County, West Virginia. The petitioner proposes to use #4 A.W.G. and #2 A.W.G. portable trailing cables up to a maximum length of 750 feet to supply 575-volt, three phase, alternating current to roof bolting machines and shuttle cars using the specific terms and conditions listed in this petition. The petitioner asserts that the proposed alternative method would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2350, Arlington, Virginia 22209. All comments must be postmarked or received in that office on or before December 31, 2003. Copies of these petitions are available for inspection at that address.

Dated at Arlington, Virginia, this 17th day of November, 2003.
Marvin W. Nichols, Jr.,
Director, Office of Standards, Regulations, and Variances.

[FR Doc. 03-29746 Filed 11-28-03; 8:45 am]

BILLING CODE 4510-43-P